NATIONAL AERONAUTICS AND SPACE ADMINISTRATION

[Notice: (10-023)]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 30 calendar days from the date of this publication.

ADDRESSES: All comments should be addressed to Brenda Maxwell, National Aeronautics and Space Administration, Washington, DC 20546-0001.

FOR FURTHER INFORMATION CONTACT: Requests for additional information or copies of the information collection instrument(s) and instructions should be directed to Brenda Maxwell, NASA PRA Officer, NASA Headquarters, 300 E Street, SW., JE000, Washington, DC 20546, (202) 358-1824, Brenda.Maxwell@nasa.gov.

SUPPLEMENTARY INFORMATION:

I. Abstract

The new NASA Explorer Schools (NES) model will focus implementing a “best of” collection of NASA content and curricular support resources. Eight to ten core products or opportunities will be available, representing all NASA Mission Directorates and current NASA missions in Earth and Space Science, mathematics, chemistry, and physics.

II. Method of Collection

The data collection uses web-based surveys, telephone interviews and in person focus groups.

III. Data

Title: NASA Explorer Schools (NES)

OMB Number: 2700-xxxx.

Type of review: New Collection.

Affected Public: State, Local, or Tribal Government.

Number of Respondents: 720.

Responses Per Respondent: 1.

Annual Responses: 720.

Hours Per Request: 0.25-1 hour.

Annual Burden Hours: 1935.

Frequency of Report: Annually.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Brenda Maxwell,
NASA PRA Officer.

[FR Doc. 2010-3895 Filed 2-25-10; 8:45 am]

BILLING CODE P